DEPARTMENT OF DEFENSE

Department of the Army; Corps of Engineers

Termination of Environmental Impact Statement for Baryonyx Corporation, Inc.'s Proposed Wind Farm, Offshore, Willacy and Cameron Counties, TX

AGENCY: Department of the Army, U.S. Army Corps of Engineers, DoD.

ACTION: Notice.

SUMMARY: The U.S. Army Corps of Engineers, Galveston District, Regulatory Branch is notifying interested parties that it has terminated the process to develop an Environmental Impact Statement (EIS) and has withdrawn the Section 10 of the Rivers and Harbors Act of 1899 (33 U.S.C. 403) and Section 404 of the Clean Water Act (33 U.S.C. 1344) permit application for the proposed Baryonyx Corporation, Inc. 300-turbine offshore wind farm located in the Gulf of Mexico state waters, offshore Willacy and Cameron Counties in state tracts: 1068, 1069, 1085, 1086, 1087, 1088, 1089, 1090, 1126, 1127, 1129, 1130 and 1131. The original Notice of Intent to Prepare and EIS was published in the Federal Register on Wednesday, March 14, 2012 (77 FR 15088).

FOR FURTHER INFORMATION CONTACT: Questions regarding the termination of this EIS process should be addressed to: Jayson M. Hudson, U.S. Army Corps of Engineers, Regulatory Branch, P.O. Box 1229, Galveston, TX 77553-1229; (409) 766-3108; or Email: SWG2011511@usace.army.mil. Emailed question, including attachments, should be provided in .doc, .docx, .pdf or .txt formats.

SUPPLEMENTARY INFORMATION: The Galveston District published the original Notice of Intent to prepare an EIS for the proposed Baryonyx offshore wind farm (SWG-2011-00511) in the Federal Register on Wednesday, March 14, 2012 (77 FR 15088). After the initial public scoping process in March 2012, the Corps received 1156 substantive comments related to the applicant's proposal construction of approximately 300 offshore turbines in the Gulf of Mexico offshore Willacy and Cameron Counties, TX. Common concerns with the proposed project included potential impacts to migratory birds/bats, threatened and endangered species, marine resources (including essential fish habitat), navigation/transportation, terrestrial wildlife, socioeconomics, wetlands/submerged aquatic vegetation (SAV), other, including viewshed, water and sediment quality, terrestrial and marine cultural, resources, offshore and onshore corridor analysis, coastal processes, recreation, storm surge, hazardous materials, air quality, noise, land use, geology, and coastal zone management. Based on comments submitted during this scoping process, the Corps began drafting an EIS in cooperation with the Environmental Protection Agency, National Park Service, and the U.S. Coast Guard; however, a draft EIS has not been published. By letter dated May 12, 2014, Baryonyx Corporation, Inc. requested withdrawal of their Department of the Army permit application. The applicant stated that their intent is to redefine the project and resubmit at a future date. Therefore, the Corps officially determined that it is appropriate to terminate the EIS. The Corps' neutral role in the EIS process was to evaluate the environmental consequences of the proposed project under the authority of Section 10 of the Rivers and Harbors Act of 1899 and Section 404 of the Clean Water Act. The preparation of the EIS was being conducted by a third-party contractor directed by the Corps, and funded by the applicant, which is typical of the Corps Regulatory EIS studies. Withdrawal of the permit application and termination of the EIS process will not prevent Baryonyx Corporation, Inc. from reapplying at a later date.

Brenda S. Bowen,
Army Federal Register Liaison Officer.

[FR Doc. 2014-19127 Filed 8-12-14; 8:45 am]

BILLING CODE 3720-58-P